NATIONAL ARCHIVES AND RECORDS ADMINISTRATION

[NARA-2015-056]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize agencies to preserve records of continuing value in the National Archives of the United States and to destroy, after a specified period, records lacking administrative, legal, research, or other value. NARA publishes notice for records schedules in which agencies propose to destroy records not previously authorized for disposal or reduce the retention period of records already authorized for disposal. NARA invites public comments on such records schedules, as required by 44 U.S.C. 3303a(a).

DATES: NARA must receive requests for copies in writing by September 4, 2015. Once NARA completes appraisal of the records, we will send you a copy of the schedule you requested. We usually prepare appraisal memoranda that contain additional information concerning the records covered by a proposed schedule. You may also request these. If you do, we will also provide them once we have completed the appraisal. You have 30 days after we send these requested documents in which to submit comments.

ADDRESSES: You may request a copy of any records schedule identified in this notice by contacting Records Management Services (ACNR) using one of the following means:

Mail: NARA (ACNR); 8601 Adelphi Road, College Park, MD 20740-6001.

Email: request.schedule@nara.gov.

FAX: 301-837-3698.

You must cite the control number, which appears in parentheses after the name of the agency which submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it has created or maintains the records. Items included in schedules submitted to NARA on or after December 17, 2007, are media neutral unless the item is limited to a specific medium. (See 36 CFR 1225.12(e).)

No agencies may destroy Federal records without the approval of the Archivist of the United States. The Archivist grants this approval only after a thorough consideration of the records' administrative use by the agency of origin, the rights of the Government and of private people directly affected by the Government's activities, and whether or not the records have historical or other value.

In addition to identifying the Federal agencies and any subdivisions requesting disposition authority, this notice lists the organizational unit(s) accumulating the records or that the schedule has agency-wide applicability (in the case of schedules that cover records that may be accumulated throughout an agency), provides the control number assigned to each schedule, the total number of schedule items, and the number of temporary items (the records proposed for destruction), and includes a brief description of the temporary records. The records schedule itself contains a full description of the records at the file unit level as well as their disposition. If NARA staff has prepared an appraisal memorandum for the schedule, it too includes information about the records. You may request additional information about the disposition process at the addresses above.

Schedules Pending

1. Department of Commerce, National Oceanic and Atmospheric Administration (DAA-0370-2015-0002, 3 items, 3 temporary items). Aeronautical survey files, including aeronautical field notes, observations, triangulation diagrams, and aerial photographs annotated with geodetic control data.

2. Department of Defense, Defense Threat Reduction Agency (DAA-0374-2014-0025, 1 item, 1 temporary item). Records relating to agency observations of weather conditions.

3. Department of Health and Human Services, Office of the Secretary (DAA-0468-2015-0002, 3 items, 3 temporary items). Master files of an electronic information system used to track and store records of healthcare discrimination complaints, investigations, correspondence, outreach, and working files.

4. Department of Homeland Security, United States Citizenship and Immigration Services (DAA-0566-2015-0004, 8 items, 8 temporary items). Applications and supporting documents used to replace permanent resident cards.

5. Department of Homeland Security, United States Citizenship and Immigration Services (DAA-0566-2015-0005, 1 item, 1 temporary item). Roster of candidates for naturalization provided to the court that will administer the oath of allegiance.

6. Department of Homeland Security, United States Citizenship and Immigration Services (DAA-0566-2015-0006, 1 item, 1 temporary item). Records of non-immigrants passing through the United States before 2002.

7. Department of Homeland Security, United States Citizenship and Immigration Services (DAA-0566-2015-0007, 1 item, 1 temporary item). Records of non-immigrants deported before 2002 that were not integrated into the records of an immigrant.

8. Department of Homeland Security, United States Citizenship and Immigration Services (DAA-0566-2015-0008, 1 item, 1 temporary item). Records of non-immigrants visiting the United States before 2002 that were not integrated into the records of an immigrant.

9. Department of Justice, United States Marshals Service (DAA-0527-2013-0027, 3 items, 2 temporary items). Records include speeches and testimony by agency personnel. Proposed for permanent retention are speeches and testimony of high-level agency officials.

10. Department of Justice, United States Marshals Service (DAA-0527-2013-0028, 3 items, 2 temporary items). Office of Internal Affairs records to include routine employee misconduct case files and general correspondence. Proposed for permanent retention are significant cases of employee misconduct.

11. Department of the Navy, United States Marine Corps (DAA-0127-2014-0001, 1 item, 1 temporary item). Master files of an electronic information system used for the collection, analysis, and dissemination of intelligence information.

12. Department of State, Bureau of Energy Resources (DAA-0059-2015-0003, 2 items, 2 temporary items). Records of the Office of Energy Programs including routine program and subject files.

13. Department of State, Bureau of International Organization Affairs (DAA-0059-2014-0017, 4 items, 3 temporary items). Records of the Office of International Conferences including routine administrative and operational files. Proposed for permanent retention are conference files including delegation lists, agendas, and staff studies and reports.

14. Department of the Treasury, Internal Revenue Service (DAA-0058-2015-0001, 3 items, 2 temporary items). Email records of non-senior agency employees. Proposed for permanent retention are email records of senior-level agency officials.

15. Denali Commission, Agency-wide (DAA-0591-2013-0001, 8 items, 1 temporary item). Master files of electronic information systems used to track grant projects. Proposed for permanent retention are policy, meeting, and correspondence files; publications and public relations files; Memorandum of Understanding/Agreement files, and historical grant case files.

16. National Archives and Records Administration, Office of the Federal Register (DAA-0064-2015-0002, 1 item, 1 temporary item). Electronic submissions of notices for publication in the Federal Register.

17. National Mediation Board, Agency-wide (DAA-0013-2015-0001, 1 item, 1 temporary item). Rail and air carrier labor contracts.

18. Office of the Director of National Intelligence, Mission Support Division (N1-576-12-1, 16 items, 14 temporary items). Records include preliminary drafts and non-substantive working papers, insider threat case files, and records related to administrative functions and activities. Proposed for permanent retention are annual agency reports and substantive working papers and drafts.

Dated: July 28, 2015.
Paul M. Wester, Jr.,
Chief Records Officer for the U.S. Government.

[FR Doc. 2015-19249 Filed 8-4-15; 8:45 am]

BILLING CODE 7515-01-P